DEPARTMENT OF DEFENSE

Office of the Secretary

Charter Renewal of Department of Defense Federal Advisory Committees—Board of Regents, Uniformed Services University of the Health Sciences

AGENCY: Department of Defense (DoD).

ACTION: Charter renewal of Federal Advisory Committee.

SUMMARY: The DoD is publishing this notice to announce that it is renewing the charter for the Board of Regents, Uniformed Services of the Health Sciences (BoR USUHS).

FOR FURTHER INFORMATION CONTACT: Jim Freeman, DoD Advisory Committee Management Officer, 703-692-5952.

SUPPLEMENTARY INFORMATION: The BoR USUHS' charter is being renewed in accordance with the Federal Advisory Committee Act (FACA) (5 U.S.C., appendix) and 41 CFR 102-3.50(a). The charter and contact information for the BoR USUHS' Designated Federal Officer (DFO) are found at https://www.facadatabase.gov/FACA/apex/FACAPublicAgencyNavigation.

The BoR USUHS will provide independent advice and recommendations on academic and administrative matters critical to the full accreditation and successful operation of the Uniformed Services University of the Health Sciences (“the University”) and carrying out the Secretary's responsibility to conduct the business of the University.

Pursuant to 10 U.S.C. 2113a(b), the BoR USUHS shall consist of 16 members appointed by the Secretary of Defense and the Deputy Secretary of Defense (“the DoD Appointing Authority”), as follows: (a) Nine persons outstanding in the fields of health care, higher education administration, or public policy, who shall be appointed from civilian life by the DoD Appointing Authority; (b) the Secretary of Defense, or his or her designee, who shall be an ex officio member; (c) the Director of the Defense Health Agency, who shall be an ex officio member; (d) the Surgeons General of the Uniformed Services, who shall be ex officio members; and (e) the President of the University, who shall be a non-voting, ex officio member.

BoR USUHS members who are not ex officio members shall be appointed by the DoD Appointing Authority pursuant to 10 U.S.C. 2113a(b)(1) and (c) for a six-year term of service except that: (a) Any member appointed to fill a vacancy occurring before the expiration of the term for which his or her predecessor was appointed shall be appointed for the remainder of such term; and, (b) any member whose term of office has expired shall continue to serve until his or her successor is appointed.

Appointments for BoR USUHS members who are not ex officio members shall be renewed on an annual basis in accordance with DoD policy and procedures. No member, unless approved by the DoD Appointing Authority, may serve on more than two DoD Federal advisory committees at one time.

BoR USUHS members who are not full-time or permanent part-time Federal civilian officers or employees, or active duty members of the Uniformed Services, shall be appointed as experts or consultants pursuant to 5 U.S.C. 3109 to serve as special government employee members. BoR USUHS members who are full-time or permanent part-time Federal civilian officers or employees, or active duty members of the Uniformed Services, shall be designated pursuant to 41 CFR 102-3.130(a) to serve as regular government employee (RGE) members.

Pursuant to 10 U.S.C. 2113a(d), the DoD Appointing Authority shall appoint the BoR USUHS Chair for a term of service of one-to-two years, with annual renewal which shall not exceed the member's approved BoR USUHS appointment, in accordance with DoD policy and procedures.

All BoR USUHS members are appointed to exercise their own best judgment on behalf of the DoD, without representing any particular points of view, and to discuss and deliberate in a manner that is free from conflicts of interest.

Pursuant to 10 U.S.C. 2113a(e), BoR USUHS members (other than ex officio members) shall be entitled to receive compensation at a rate determined by the DoD Appointing Authority, for each day of attendance at the BoR USUHS meetings, in addition to travel and other necessary expenses connected with their official duties on the BoR USUHS, in accordance with the provision of 5 U.S.C. 5703(b), (d) and 5707. RGE members shall only be reimbursed for official BoR USUHS-related travel and per diem.

The public or interested organizations may submit written statements to the BoR USUHS about the BoR USUHS' mission and functions. Written statements may be submitted at any time or in response to the stated agenda of planned meeting of the BoR USUHS. All written statements shall be submitted to the DFO for the BoR USUHS, and this individual will ensure that the written statements are provided to the membership for their consideration.

Dated: May 20, 2022.
Aaron T. Siegel,
Alternate OSD Federal Register Liaison Officer, Department of Defense.

[FR Doc. 2022-11295 Filed 5-25-22; 8:45 am]

BILLING CODE 5001-06-P